DEPARTMENT OF LABOR

Mine Safety and Health Administration

Petitions for Modification of Application of Existing Mandatory Safety Standard

AGENCY: Mine Safety and Health Administration, Labor.

ACTION: Notice.

SUMMARY: This notice is a summary of petitions for modification submitted to the Mine Safety and Health Administration (MSHA) by the parties listed below.

DATES: All comments on the petitions must be received by MSHA's Office of Standards, Regulations, and Variances on or before July 23, 2018.

ADDRESSES: You may submit your comments, identified by “docket number” on the subject line, by any of the following methods:

1. Email: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (phone), barron.barbara@dol.gov (email), or 202-693-9441 (fax). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor (Secretary) determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petition for Modification

Docket Number: M-2018-015-C.

Petitioner: Spartan Mining Company, LLC, 500 Lee Street East, Suite 701 (25301), P.O. Box 2548, Charleston, West Virginia 25329.

Mine: Road Fork #52 Mine, MSHA I.D. No. 46-09522, located in Wyoming County, West Virginia.

Regulation Affected: 30 CFR 75.1700 (Oil and gas wells).

Modification Request: The petitioner requests a modification of the existing standard as it relates to vertical oil and gas wells at the Road Fork #52 mine. The petitioner states that:

(1) The Road Fork #52 mine extracts coal from the Pocahontas No. 3 coal seam. The Road Fork #52 mine will operate two continuous miner sections producing coal 5 to 6 days per week.

(2) In addition to the horizontal coalbed methane wells, there are many vertical oil and gas wells which exist in the reserve area of the Road Fork #52 mine.

(3) Road Fork #52 mine will employ the continuous mining room and pillar method of mining. It is anticipated that each vertical wellbore will be mined through only once in any seam.

(4) With respect to vertical mines, the petitioner proposes to modify 30 CFR 75.1700 as provided for below. The modifications requested would allow petitioner to mine through vertical wellbores as encountered and whenever the safety barrier diameter is reduced to a distance less than the District Manager would approve pursuant to § 75.1700 for plugged oil or gas wells penetrating the Pocahontas No. 3 Coal Seam and other mineable coal seams.

(a) The petitioner proposes to use the following procedures when cleaning out and preparing oil and gas wells prior to plugging and replugging;

(1) A diligent effort will be made to clean the borehole to the original total depth. If this depth cannot be reached, the borehole will be cleaned out to a depth which would permit the placement of at least 200 feet of expanding cement below the base of the lowest mineable coalbed.

(2) When cleaning the borehole, a diligent effort will be made to remove all the casing in the borehole. If it is not possible to remove all casing, the casing which remains will be perforated, or ripped, at intervals spaced close enough to permit expanding cement slurry to infiltrate the annulus between the casing and the borehole wall for a distance of at least 200 feet below the base of the lowest mineable coalbed.

(3) If the cleaned-out borehole produces gas, a mechanical bridge plug will be placed in the borehole in a competent stratum at least 200 feet below the base of the lowest mineable coalbed, but above the top of the uppermost hydrocarbon-producing stratum. If it is not possible to set a mechanical bridge plug, a substantial brush plug may be used in place of the mechanical bridge plug.

(4) Logs will be made consisting of a caliper survey directional deviation survey and logs suitable for determining the top and bottom of the lowest mineable coalbed and potential hydrocarbon producing strata and the location for the bridge plug.

(5) If the uppermost hydrocarbon-producing stratum is within 200 feet of the base of the lowest mineable coalbed, properly placed mechanical bridge plugs or a suitable brush plug, described in subparagraph (a)(3) above, will be used to isolate the hydrocarbon-producing stratum from the expanding cement plug. Nevertheless, a minimum of 200 feet of expanding cement will be placed below the lowest mineable coalbed.

(6) The wellbore will be completely filled and circulated with a gel that inhibits any flow of gas, supports the walls of the borehole, and increases the density of the expanding cement. This gel will be pumped through open-end tubing that extends to approximately 20 feet above the bottom of the cleaned out area of the borehole or bridge plug.

(b) The petitioner proposes to use the following procedures when plugging oil and gas wells to the surface:

(1) A cement plug will be set in the wellbore by pumping an expanding cement slurry down the tubing to displace the gel and fill the borehole to the surface. As an alternative, the cement slurry may be pumped down the tubing so that the borehole is filled with Portland cement or a Portland cement-fly ash mixture from approximately 100 feet above the top of the lowest mineable coalbed to the surface with an expanding cement plug extending from at least 200 feet below the lowest mineable coalbed to the bottom of the Portland cement. There will be at least 200 feet of expanding cement below the base of the lowest mineable coalbed.

(2) A small quantity of steel turnings, or other small magnetic particles, will be embedded in the top of the cement near the surface to serve as a permanent magnetic monument of the borehole.

(c) The petitioner proposes the following procedures when using the vent pipe method for plugging oil and gas wells:

(1) A 4½-inch or larger vent pipe will be run into the wellbore to a depth of 100 feet below the lowest mineable coalbed and wedged to a small diameter pipe, if needed, which will extend to approximately 20 feet above the bottom of the cleaned out area of the borehole or bridge plug.

(2) A cement plug will be set in the wellbore by pumping an expanding cement slurry, Portland cement, or a Portland cement-fly ash mixture down the tubing to displace the gel so that the borehole is filled with cement. The borehole and the vent pipe will be filled with expanding cement to a minimum of 200 feet below the base of the lowest mineable coalbed. The top of the expanding cement will extend upward to approximately 100 feet above the top of the lowest mineable coalbed.

(3) All fluid will be evacuated from the vent pipe to facilitate testing for gases. During the evacuation of fluid, the expanding cement will not be disturbed.

(4) The top of the vent pipe will be protected to prevent liquids or solids from entering the wellbore, but permit ready access to the full internal diameter of the vent pipe when necessary.

(d) The petitioner proposes to use the following procedures when plugging oil or gas wells for subsequent use as degasification boreholes:

(1) A cement plug will be set in the wellbore by pumping an expanding cement slurry down the tubing to displace the gel and provide at least 200 feet of expanding cement below the lowest mineable coalbed. The top of the expanding cement will extend upward to about the top of the coalbed being mined. This distance will be based on the average height of the roof strata breakage for the mine.

(2) To facilitate methane drainage, degasification casing of suitable diameter, slotted or perforated throughout its lower 150 to 200 feet, will be set in the borehole to a point 10 to 30 feet above the top of the expanding cement.

(3) The annulus between the degasification casing and the borehole wall will be cemented from a point immediately above the slots or perforations to the surface.

(4) The degasification casing will be cleaned out for its total length.

(5) The top of the degasification casing will be fitted with a wellhead equipped as required by the DM. Such equipment may include check valves, shut-in valves, sampling ports, flame arrestor equipment, and security fencing.

(e) The petitioner proposes to use the well plugging procedures described above and the cut-through procedures described below whenever the petitioner reduces the safety barrier diameter to a distance less than the DM would approve pursuant to § 75.1700, or proceeds with an intent to cut-through a plugged well.

(1) The petitioner will notify the DM or his designee prior to reducing the safety barrier to a distance less than the DM would approve pursuant to § 75.1700 or proceeding with an intent to cut through a plugged well.

(2) Mining through a plugged well will be done on a shift approved by the DM or designee.

(3) Prior to mining through a plugged well, the petitioner will notify the DM or designee, representative of the miners, and the appropriate State agency in sufficient time for them to have a representative present.

(4) Drivage sites will be installed at the last open crosscut near the place to be mined to ensure intersection of the well. The drivage sites will not be more than 50 feet from the well.

(5) Firefighting equipment, including fire extinguishers, rock dust, and sufficient fire hose to reach the working face area of the mining-through will be available when either the conventional or continuous mining method is used. The fire hose will be located in the last open crosscut of the entry or room. All fire hoses will be ready for operation during the mining-through.

(6) Sufficient supplies of roof support and ventilation materials will be available and located at the last open crosscut. In addition, an emergency plug and/or plugs will be available in the immediate area of the mine-through.

(7) At least the quantity of air required by the approved mine ventilation plan, but not less than 6,000 cubic feet per minute for scrubber equipped continuous miners or not less than 9,000 cubic feet per minute for continuous miner sections using auxiliary fans or line brattice only, will be used to ventilate the working face during the mining- through operation.

(8) Equipment will be checked for permissibility and serviced on the shift prior to mining-through the well and the water line maintained to the tail piece with a sufficient amount of fire hose to reach the farthest point of penetration on the section.

(9) The methane monitor on the continuous mining machine will be calibrated on the shift prior to mining-through the well.

(10) When mining is in progress, tests for methane will be made with a hand-held methane detector at least every 10 minutes from the time that mining with the continuous mining machine is within 30 feet of the well until the well is intersected and immediately prior to mining through. During the actual cutting through process, no individual will be allowed on the return side until mining-through has been completed and the area has been examined and declared safe.

(11) The working place will be free from accumulations of coal dust and coal spillages, and rock dust will be placed on the roof, rib and floor within 20 feet of the face when mining through or near the well on the shift or shifts during which the cut-through will occur.

(12) When the wellbore is intersected, all equipment will be deenergized and the place thoroughly examined and determined safe before mining is resumed. Any well casing will be removed and no open flames will be permitted in the area until adequate ventilation has been established around the wellbore.

(13) After a well has been intersected and the working place determined safe, mining will continue inby the well a sufficient distance to permit adequate ventilation around the area of the wellbore.

(14) No person will be permitted in the area of the mining-through operation except those actually engaged in the operation, company personnel, representatives of the miners, personnel from MSHA, and personnel from the appropriate State agency.

(15) The mining-through operation will be under the direct supervision of a certified official. Instructions concerning the mining-through operation will be issued only by the certified official in charge.

(16) MSHA personnel may interrupt or halt the mining-through operation when it is necessary for the safety of the miners.

(17) A copy of the petition will be maintained at the mine and be available to the miners.

(18) The petitioner will file a plugging affidavit setting forth the persons who participated in the work, a description of the plugging work, and certification by the petitioner that the well has been plugged as described.

(19) Within 60 days after the proposed decision and order (PDO) becomes final, the petitioner will submit proposed revisions for its approved 30 CFR part 48 training plan to the DM. These proposed revisions will include initial and refresher training regarding compliance with the terms and conditions in the PDO.

(f) Prior to mining through a vertical wellbore of a well, in addition to complying with the modifications described above, the petitioner will verify that the following procedures have been performed on the well:

(1) If water is present, it will be bailed from the vertical section of the wellbore, as close to the coal seam elevation as practical using normal bailing equipment.

(2) The surface wellhead will be maintained open to bring the vertical section of the wellbore to outside atmospheric pressure.

(g) In addition, the petitioner proposes to do the following:

(1) Install drivage sites within 80 feet of the mine-through point.

(2) Provide firefighting equipment near the working face, including two 10—pound fire extinguishers, 240 pounds of rock dust, and fire hose of sufficient length to reach the working face and capable of delivering at least 50 gallons per minute of water at minimum pressure of 50 pounds per square inch.

(3) Supply a quantity of at least 9,000 CFM of intake air at the face, but no less than the approved ventilation plan amount, of intake air at the face.

(4) Calibrate the continuous miner methane monitor on one of the five production shifts prior to the shift during which the mine-through is anticipated.

(5) Test for methane with a hand-held methane detector at least every 10 minutes during the time mining is conducted within 30 feet of the wellbore.

(6) Deenergize all equipment and thoroughly examine the area when the wellbore is intersected.

(7) Continue hand-held methane detector tests at least every 10 minutes during production shifts until mining has progressed 20 feet past the initial mine-through point once the area has been determined to be safe and mining has resumed.

(h) Only company personnel, personnel from MSHA, and personnel from the appropriate West Virginia agency will be permitted in the area of the mine-through operation.

(i) The mine-through operation will be under the direct supervision of the certified official. Instructions concerning the mine-through operation will be issued only by a certified official.

The petitioner asserts that the proposed alternative method will at all times guarantee no less than the same measure of protection from the potential hazards against which the existing standard was intended to guard.

Sheila McConnell,
Director, Office of Standards, Regulations, and Variances.

[FR Doc. 2018-13396 Filed 6-21-18; 8:45 am]

BILLING CODE 4520-43-P